DEPARTMENT OF VETERANS AFFAIRS

Reasonable Charges For Medical Care Or Services; 2003 Methodology Changes

AGENCY: Department of Veterans Affairs.

ACTION: Notice.

SUMMARY: In a companion document published as a proposed rule in this issue of the Federal Register, we are proposing to amend VA's medical regulations concerning “reasonable charges” for medical care or services provided or furnished by VA to a veteran:

—For a nonservice-connected disability for which the veteran is entitled to care (or the payment of expenses of care) under a health plan contract;

—For a nonservice-connected disability incurred incident to the veteran's employment and covered under a worker's compensation law or plan that provides reimbursement or indemnification for such care and services; or

—For a nonservice-connected disability incurred as a result of a motor vehicle accident in a State that requires automobile accident reparations insurance.

If the methodology changes presented in the proposed rule are subsequently adopted as a final rule, then the information set forth in this document for calculating actual charge amounts at individual VA facilities will be used from the effective date of the final rule until changed by a subsequent Federal Register notice. Accordingly, interested parties may wish to retain this document for future reference.

This document also identifies the editions of the data sources used to develop the accompanying charge tables, provides information on where the various data sources may be obtained, and provides a list of VA health care facilities.

FOR FURTHER INFORMATION CONTACT: David Cleaver, Chief Business Office (168), Veterans Health Administration, Department of Veterans Affairs, 810 Vermont Avenue, NW., Washington, DC 20420, (202) 254-0361. (This is not a toll free number.)

SUPPLEMENTARY INFORMATION: A proposed rule published as a companion document in this issue of the Federal Register proposes to amend VA's “reasonable charges” regulations for medical care and services (38 CFR 17.101) to revise the methodology for establishing acute inpatient facility charges; skilled nursing facility/sub-acute inpatient facility charges; partial hospitalization facility charges; outpatient facility charges; physician and other professional charges, including professional charges for anesthesia services and dental services; pathology and laboratory charges; observation care facility charges; ambulance and other emergency transportation charges; and charges for durable medical equipment, drugs, injectables, and other medical services, items, and supplies identified by HCPCS Level II codes. If the changes presented in the proposed rule are subsequently adopted as a final rule, then information for calculating actual charge amounts at individual VA facilities using the amended methodologies will be as set forth in Tables A through S in this document and will be effective until changed by a subsequent Federal Register notice.

The proposed rule also proposes to amend the existing regulations to provide authority to charge for medical care and services under specified circumstances when VA does not have an established charge.

Previously, information on the editions of the data sources used to establish reasonable charges and where the various data sources could be obtained was included in the regulations. We are now proposing to present this information in the applicable Federal Register notice. Accordingly, Supplementary Table 1 lists the data sources and editions used for compiling the data in Tables A through S in this document. Supplementary Table 2 provides information on where the various data sources may be obtained.

Previously, the tables of geographic area adjustment factors (GAAFs) listed VA facility locations by city and state. Consistent with the proposal to use three-digit ZIP Code areas as the geographic areas for all charge types, the GAAFs presented in this document are listed by three-digit ZIP Code. Supplementary Table 3 provides a list of VA facilities that links them to their three-digit ZIP Codes.

Anthony J. Principi,
Secretary of Veterans Affairs.

BILLING CODE 8320-01-P

[FR Doc. 03-24103 Filed 10-1-03; 8:45 am]

BILLING CODE 8320-01-C